DEPARTMENT OF ENERGY

Federal Energy Regulatory Commission

Combined Notice of Filings

Take notice that the Commission has received the following Natural Gas Pipeline Rate and Refund Report filings:

Filings Instituting Proceedings

Docket Numbers: PR24-73-000.

Applicants: Louisville Gas and Electric Company.

Description: § 284.123(g) Rate Filing: Revised Statement of Operating Conditions Exhibit A Rates to be effective 5/1/2024.

Filed Date: 5/31/24.

Accession Number: 20240531-5047.

Comment Date: 5 p.m. ET 6/21/24.

§ 284.123(g) Protest: 5 p.m. ET 7/30/24.

Docket Numbers: RP24-785-000.

Applicants: Dauphin Island Gathering Partners.

Description: § 4(d) Rate Filing: Chevron—Amendment eff 6-1-24 to be effective 6/1/2024.

Filed Date: 5/30/24.

Accession Number: 20240530-5262.

Comment Date: 5 p.m. ET 6/11/24.

Docket Numbers: RP24-786-000.

Applicants: El Paso Natural Gas Company, L.L.C.

Description: § 4(d) Rate Filing: Negotiated Rate Agreements Update (Hartree 614700 615843 610670 June 2024) to be effective 6/1/2024.

Filed Date: 5/30/24.

Accession Number: 20240530-5270.

Comment Date: 5 p.m. ET 6/11/24.

Docket Numbers: RP24-787-000.

Applicants: TransColorado Gas Transmission Company LLC.

Description: § 4(d) Rate Filing: TC Quarterly FL&U Update May 2024 to be effective 7/1/2024.

Filed Date: 5/30/24.

Accession Number: 20240530-5280.

Comment Date: 5 p.m. ET 6/11/24.

Docket Numbers: RP24-788-000.

Applicants: Tennessee Gas Pipeline Company, L.L.C.

Description: § 4(d) Rate Filing: PCB Adjustment Period Extension through 2026 to be effective 7/1/2024.

Filed Date: 5/31/24.

Accession Number: 20240531-5000.

Comment Date: 5 p.m. ET 6/12/24.

Docket Numbers: RP24-789-000.

Applicants: Kinder Morgan Louisiana Pipeline LLC.

Description: § 4(d) Rate Filing: Periodic Rate Adjustment—Fuel and L&U Retention Percentages July 2024 to be effective 7/1/2024.

Filed Date: 5/31/24.

Accession Number: 20240531-5001.

Comment Date: 5 p.m. ET 6/12/24.

Docket Numbers: RP24-790-000.

Applicants: Sea Robin Pipeline Company, LLC.

Description: § 4(d) Rate Filing: 5-31-24 Fuel Tracker to be effective 7/1/2024.

Filed Date: 5/31/24.

Accession Number: 20240531-5005.

Comment Date: 5 p.m. ET 6/12/24.

Docket Numbers: RP24-791-000.

Applicants: Iroquois Gas Transmission System, L.P.

Description: § 4(d) Rate Filing: 5.31.24 Negotiated Rates—Sequent Energy Management LLC R-3075-22 to be effective 6/1/2024.

Filed Date: 5/31/24.

Accession Number: 20240531-5030.

Comment Date: 5 p.m. ET 6/12/24.

Docket Numbers: RP24-792-000.

Applicants: WBI Energy Transmission, Inc.

Description: § 4(d) Rate Filing: 2024 Negotiated and Non-Conforming SA Basin Electric Electric Power Corporation to be effective 7/1/2024.

Filed Date: 5/31/24.

Accession Number: 20240531-5040.

Comment Date: 5 p.m. ET 6/12/24.

Docket Numbers: RP24-793-000.

Applicants: Trunkline Gas Company, LLC.

Description: § 4(d) Rate Filing: Amended Neg Rate Agreement—DCP South to be effective 6/1/2024.

Filed Date: 5/31/24.

Accession Number: 20240531-5046.

Comment Date: 5 p.m. ET 6/12/24.

Docket Numbers: RP24-794-000.

Applicants: NEXUS Gas Transmission, LLC.

Description: § 4(d) Rate Filing: Negotiated Rates—Various Releases eff 6-1-2024 to be effective 6/1/2024.

Filed Date: 5/31/24.

Accession Number: 20240531-5077.

Comment Date: 5 p.m. ET 6/12/24.

Docket Numbers: RP24-795-000.

Applicants: Maritimes & Northeast Pipeline, L.L.C.

Description: § 4(d) Rate Filing: Negotiated Rates—Various Releases eff 6-1-24 to be effective 6/1/2024.

Filed Date: 5/31/24.

Accession Number: 20240531-5083.

Comment Date: 5 p.m. ET 6/12/24.

Docket Numbers: RP24-796-000.

Applicants: Algonquin Gas Transmission, LLC.

Description: § 4(d) Rate Filing: Negotiated Rates—Various Releases eff 6-1-24 to be effective 6/1/2024.

Filed Date: 5/31/24.

Accession Number: 20240531-5093.

Comment Date: 5 p.m. ET 6/12/24.

Docket Numbers: RP24-797-000.

Applicants: Alliance Pipeline L.P.

Description: § 4(d) Rate Filing: Negotiated Rates—Various June 1 2024 Releases to be effective 6/1/2024.

Filed Date: 5/31/24.

Accession Number: 20240531-5122.

Comment Date: 5 p.m. ET 6/12/24.

Docket Numbers: RP24-798-000.

Applicants: WBI Energy Transmission, Inc.

Description: § 4(d) Rate Filing: 2024 Fuel and Lost and Unaccounted for Provisions to be effective 7/1/2024.

Filed Date: 5/31/24.

Accession Number: 20240531-5123.

Comment Date: 5 p.m. ET 6/12/24.

Docket Numbers: RP24-799-000.

Applicants: El Paso Natural Gas Company, L.L.C.

Description: § 4(d) Rate Filing: Negotiated Rate Agreements Update (Pioneer June 2024) to be effective 6/1/2024.

Filed Date: 5/31/24.

Accession Number: 20240531-5126.

Comment Date: 5 p.m. ET 6/12/24.

Docket Numbers: RP24-800-000.

Applicants: Elba Express Company, L.L.C.

Description: Compliance filing: EEC Cash-out Filing 2024 to be effective N/A.

Filed Date: 5/31/24.

Accession Number: 20240531-5134.

Comment Date: 5 p.m. ET 6/12/24.

Docket Numbers: RP24-801-000.

Applicants: Gulf South Pipeline Company, LLC.

Description: § 4(d) Rate Filing: Cap Rel Neg Rate Agmts (Santa Rosa 42487 to Southern Company Services 58250) to be effective 6/1/2024.

Filed Date: 5/31/24.

Accession Number: 20240531-5211.

Comment Date: 5 p.m. ET 6/12/24.

Docket Numbers: RP24-802-000.

Applicants: Gulf South Pipeline Company, LLC.

Description: § 4(d) Rate Filing: Cap Rel Neg Rate Agmts (Southern Company Services 58250 to FP&L 58263) to be effective 6/1/2024.

Filed Date: 5/31/24.

Accession Number: 20240531-5233.

Comment Date: 5 p.m. ET 6/12/24.

Docket Numbers: RP24-803-000.

Applicants: Colorado Interstate Gas Company, L.L.C.

Description: § 4(d) Rate Filing: CIG Quarterly LUF True-up Filing May 2024 to be effective 7/1/2024.

Filed Date: 5/31/24.

Accession Number: 20240531-5240.

Comment Date: 5 p.m. ET 6/12/24.

Docket Numbers: RP24-804-000.

Applicants: Northern Natural Gas Company.

Description: § 4(d) Rate Filing: 20240531 Negotiated Rate to be effective 6/1/2024.

Filed Date: 5/31/24.

Accession Number: 20240531-5242.

Comment Date: 5 p.m. ET 6/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 31, 2024.
Debbie-Anne A. Reese,
Acting Secretary.

[FR Doc. 2024-12427 Filed 6-5-24; 8:45 am]

BILLING CODE 6717-01-P